DEPARTMENT OF EDUCATION

DEPARTMENT OF HEALTH AND HUMAN SERVICES

Applications for New Awards; Race to the Top—Early Learning Challenge; Phase 2

AGENCY: Department of Education and Department of Health and Human Services.

ACTION: Notice.

Overview Information; Race to the Top—Early Learning Challenge; Phase 2 Notice Inviting Applications for New Awards for Fiscal Year (FY) 2012.

Catalog of Federal Domestic Assistance (CFDA) Number: 84.412A.

DATES: Applications Available: September 20, 2012.

Date of Pre-Application Meeting: September 25, 2012. Deadline for Transmittal of Applications: October 26, 2012.

Full Text of Announcement

I. Funding Opportunity Description

Purpose of Program: The purpose of the Race to the Top-Early Learning Challenge (RTT-ELC) program is to improve the quality of early learning and development and close the achievement gap for children with high needs. This program focuses on improving early learning and development for young children by supporting States' efforts to increase the number and percentage of low-income and disadvantaged children, in each age group of infants, toddlers, and preschoolers, who are enrolled in high-quality early learning and development programs; and to design and implement an integrated system of high-quality early learning and development programs and services.

SUPPLEMENTARY INFORMATION: The FY 2011 RTT-ELC competition identified five key reform areas representing the foundation of an effective early learning and development reform agenda that is focused on school readiness and ongoing educational success. These areas, which provided a framework for the competition's priorities, requirements, and selection criteria, are:

(A) Successful State Systems;

(B) High-Quality, Accountable Programs;

(C) Promoting Early Learning and Development Outcomes for Children;

(D) A Great Early Childhood Education Workforce; and

(E) Measuring Outcomes and Progress.

The first two of these reform areas, (A) and (B), are core areas of focus for this program (hereafter “Core Areas”), and applicants under the FY 2011 RTT-ELC competition were required to respond to all selection criteria under these Core Areas. The reform areas in (C), (D), and (E) are areas (hereafter “Focused Investment Areas”) where applicants directed targeted attention to specific activities that were relevant to their State's context. Applicants were required to address each Focused Investment Area but not all of the selection criteria under them.

In December 2011, the Departments made awards to the nine highest scoring applications from the FY 2011 RTT-ELC competition: California, Delaware, Maryland, Massachusetts, Minnesota, North Carolina, Ohio, Rhode Island, and Washington.

On December 23, 2011, the President signed into law Public Law 112-74, the Consolidated Appropriations Act, 2012, which made $550 million available for the Race to the Top Fund. This legislation authorized the Secretary of Education to make Race to the Top Fund awards on “the basis of previously submitted applications.” The Department of Education must obligate these funds by December 31, 2012.

On April 9, 2012, the Departments announced that approximately $133 million of the $550 million appropriated for the Race to the Top Fund would be made available to the next five highest scoring applicants from the FY 2011 RTT-ELC competition. These five applicants, each of which received approximately 75 percent or more of the available points under the competition, are Colorado, Illinois, New Mexico, Oregon, and Wisconsin. These States are referred to as “eligible applicants” for Phase 2 of the RTT-ELC program, under which the Departments will fund down the slate of applications from the FY 2011 RTT-ELC competition.

While $133 million can support only a selection of the activities in the plans submitted by these States in the FY 2011 RTT-ELC competition, the Secretaries believe that supporting with FY 2012 funding high-scoring applicants that did not receive funding under the FY 2011 RTT-ELC competition will help build on the momentum from the FY 2011 RTT-ELC competition and engage more States in transforming the patchwork of disconnected early childhood programs into a coordinated and high-quality system. Therefore, we will make FY 2012 funds available to the eligible applicants at up to 50 percent of the amount each requested in its application under the FY 2011 RTT-ELC competition.

The Department of Education may use any unused funds from Phase 2 of the RTT-ELC program to make awards in the FY 2012 Race to the Top District competition, which was announced in a separate notice published in the Federal Register on August 16, 2012 (77 FR 49654). Conversely, the Department of Education may use any unused FY 2012 funds from the Race to the Top District competition to supplement the awards for Phase 2 RTT-ELC.

Requirements

Except where otherwise indicated in this notice inviting applications or in the notice of final requirements for the RTT-ELC Phase 2 competition, published elsewhere in this issue of the Federal Register, the applicable final requirements and definitions of key terms from the notice inviting applications, published in the Federal Register on August 26, 2011 (76 FR 53564), apply to the RTT-ELC Phase 2 application process. The following application requirements are from the RTT-ELC Phase 2 notice of final requirements published elsewhere in this issue of the Federal Register and apply to this program.

Award Process: To receive a Phase 2 RTT-ELC award, an eligible applicant must submit—

(a) An application, consistent with its FY 2011 RTT-ELC application, that—

(1) Meets the application requirements described in the Application Requirements section of this notice; and

(2) Provides the assurances described in the Application Assurances section of this notice; and

(b) For review and approval by both Departments, a detailed plan and budget describing the activities selected from its FY 2011 RTT-ELC application that would be implemented with Phase 2 RTT-ELC funding, in accordance with the Budget Requirements section in this notice.

Note: We encourage eligible applicants to partner with each other and currently funded RTT-ELC grantees in carrying out specific activities (such as validation of a State's Tiered Quality Rating and Improvement System (TQRIS), implementation of longitudinal data systems, or development of a kindergarten entry assessment). Each eligible applicant may apply for Phase 2 RTT-ELC awards individually or as a member of a consortium (with other eligible applicants) under 34 CFR 75.127-129. A consortium can be formed only with other eligible applicants and requires a single application. A partnership can be described in the application of an individual State or a consortium and can include eligible applicants as well as currently-funded grantees. In any event, an eligible applicant must propose activities for Phase 2 of the RTT-ELC program that are consistent with its FY 2011 RTT-ELC application.

Eligibility Requirements: Eligible applicants for Phase 2 RTT-ELC awards are those States that applied for funding under the FY 2011 RTT-ELC competition and received approximately 75 percent or more of the available points but that did not receive grant awards under that competition. Therefore, only the States of Colorado, Illinois, New Mexico, Oregon, and Wisconsin are eligible to apply for Phase 2 RTT-ELC awards.

Application Requirements: Eligible applicants must meet the following requirements to receive Phase 2 RTT-ELC awards:

(a) Each eligible applicant must describe how it would implement an organizational structure for managing the Phase 2 RTT-ELC grant that is consistent with the activities and commitments described in response to selection criterion A(3)(a)(1)¹ of its FY 2011 RTT-ELC application, and describe how it would implement the activities described in response to Core Area B (selection criteria one through five) of its FY 2011 RTT-ELC application using a Phase 2 RTT-ELC award. The FY 2011 RTT-ELC Core Area B criteria promote broad participation in the State's TQRIS across a range of programs, active and continuous program quality improvement, and the publication of program ratings so that families can make informed decisions about which programs can best serve the needs of their children. Specifically, in Core Area B of its FY 2011 RTT-ELC application, each applicant had to demonstrate that it had developed and adopted, or had a high-quality plan to develop and adopt, a TQRIS. In addition, each eligible applicant must also implement the activities it proposed under Competitive Preference Priority 2, including all early learning and development programs in the TQRIS.

¹ The selection criteria from the FY 2011 RTT-ELC application can be found at http://www2.ed.gov/programs/racetothetop-earlylearningchallenge/2011-412.doc (pp. 26-74).

(b) In addition to addressing the requirements in paragraph (a) of this section, each eligible applicant must select and describe how it will implement activities that it identified in its FY 2011 RTT-ELC application in response to Focused Investment Areas C, D, or E. The eligible applicant must select activities from two or more of the three Focused Investment Areas C, D, and E, and the activities must be responsive to one or more of the selection criteria under the Focused Investment Areas chosen by the applicant. (Eligible applicants may implement additional activities proposed under more than one selection criterion within each Focused Investment Area.) In determining which selection criteria to address given the amount of available funds under Phase 2 of the RTT-ELC program, each eligible applicant must give consideration to those activities that will have the greatest impact on improving access to high-quality early learning programs for children with high needs.

Note: In light of the reduced funding available, applicants may make adjustments in the scope of services provided to meet selection criteria in Core Area A(3)(a)(1), Core Area B, Competitive Preference Priority 2, and Focused Investment Areas C, D, and E. For example, an applicant may propose to serve fewer programs or regions of the State than it proposed to serve in its FY 2011 RTT-ELC application. The eligible applicant must provide a detailed explanation of its rationale for such adjustments and also must amend its targets in Tables B(2)(c) and B(4)(c)(1-2) of the FY 2011 RTT-ELC application, as needed. The adjustments may not diminish the program's impact on improving access to high-quality early learning programs for children with high needs. In addition, if the scope of work is adjusted by targeting specific regions in the State, the activities must be consistent across regions. In making these adjustments, the Departments strongly encourage eligible applicants to consider how to use other appropriate Federal, State, private, and local resources to support their selected activities.

(c) In addition, each eligible applicant may implement the activities it proposed in response to the Invitational Priorities from its FY 2011 RTT-ELC application. Eligible applicants that wrote to Invitational Priority 2 are encouraged to enter into public-private partnerships if doing so would augment total funds available for carrying out the activities described in their FY 2011 RTT-ELC applications. Note: We encourage grantees to enter into consortia, where relevant, in order to maximize the use of available funds. Please refer to section (V)(b).

(d) The Departments will use Phase 2 RTT-ELC funding to support only those activities included in an eligible applicant's FY 2011 RTT-ELC application. Therefore, an eligible applicant must not include new activities in its Phase 2 RTT-ELC application.

(e) Each Phase 2 RTT-ELC application must include current signatures by the eligible applicant's Governor or an authorized representative signing on behalf of the Governor; an authorized representative from the eligible applicant's Lead Agency; and an authorized representative from each Participating State Agency.

(f) Each Phase 2 RTT-ELC application must include a newly-signed Memorandum of Understanding and a preliminary scope of work for each Participating State Agency. Application Assurances: Each eligible applicant must include in its Phase 2 RTT-ELC application the following assurances from its Governor or authorized representative of the Governor of its State:

(a) While the State may make appropriate adjustments to the scope, budget, timelines, and performance targets, consistent with the reduced amount of funding that is available under Phase 2 RTT-ELC, the State will maintain consistency with the absolute priority and meet all program and eligibility requirements of the FY 2011 RTT-ELC competition.

(b) The State must update tables 1-5 from section (A)(1) of its FY 2011 application. In addition, if the State has made any significant changes to the commitments, financial investments, numbers of children served, legislation, policies, practices, or other key areas of the program described in section (A)(1) of its FY 2011 application, it must submit an explanation of those changes, including updates to tables 6-13 from section (A)(1) as needed.

The State will maintain, in a manner consistent with its updates to tables 1-13, its commitment to and investment in high-quality, accessible early learning and development programs and services for children with high needs, as described in section (A)(1) of its FY 2011 RTT-ELC application.

(c) Subject to adjustments made because of the reduced amount of funding available under the Phase 2 RTT-ELC award process, the State will maintain its plan to establish strong participation and commitment by Participating State Agencies and other early learning and development stakeholders as described in section (A)(3) of its FY 2011 RTT-ELC application.

(d) The State will maintain its commitment to integrating and aligning resources and policies across Participating State Agencies as described in section (A)(3) of its FY 2011 RTT-ELC application.

(e) The State will comply with all of the accountability, transparency, and reporting requirements that applied to the FY 2011 RTT-ELC competition. (See the notice inviting applications for the FY 2011 RTT-ELC competition, published in the Federal Register on August 26, 2011 (76 FR 53564).)

(f) The State will comply with the requirements of any evaluation of the RTT-ELC program, or of specific activities it proposes to pursue as part of the program, conducted and supported by the Departments.

Budget Requirements: An eligible applicant may apply for up to 50 percent of the funds it requested in its FY 2011 RTT-ELC application. The following budget requirements apply to the Phase 2 RTT-ELC award process:

(a) Budget Narrative. Each eligible applicant must submit a detailed narrative and budget, using the format and instructions provided in the FY 2011 RTT-ELC application package, which describes the activities it has selected from its FY 2011 RTT-ELC application that it proposes to implement with a Phase 2 RTT-ELC award. This detailed narrative must include an explanation of why the eligible applicant has selected these activities and why the eligible applicant believes they will have the greatest impact on advancing its high-quality plan for early learning. The narrative must also explain where the applicant has made adjustments (such as, a reduction in the number of participating programs or areas of the State served, or the dedication of additional Federal, State, local, or private funds to support the plan) to ensure that the activities can be carried out successfully with the amount of funds available. In reviewing the narrative, we may request that the applicant submit revisions to address concerns related to feasibility or the strategic use of funds. (See the notice inviting applications for the FY 2011 RTT-ELC competition, published in the Federal Register on August 26, 2011 (76 FR 53564).)

(b) Applying as a Consortium. As discussed previously, we encourage eligible applicants to form consortia with each other or partner with currently funded FY 2011 RTT-ELC grantees in carrying out specific activities (such as validation of a State's TQRIS, implementation of longitudinal data systems, or development of a kindergarten entry assessment). Eligible applicants may apply individually or as members of a consortium (with other eligible applicants) under 34 CFR 75.127-129. A consortium can be formed only with other eligible applicants and requires a single application. A partnership can be described in the application of an individual State or a consortium and can include eligible applicants as well as currently-funded grantees. Each eligible applicant must propose activities consistent with its FY 2011 RTT-ELC application. Therefore, each eligible applicant that chooses to apply as a member of a consortium or to partner with a current RTT-ELC grantee in carrying out project activities must include in its revised budget narrative an explanation of how the activities to be undertaken by the consortium or partnership are consistent with the applicant's FY 2011 RTT-ELC application and how the consortium or partnership will help the applicant implement its selected activities. It is important to note that an applicant may propose some activities that it would execute alone and others that it would execute as part of a consortium.

(c) Available Funds. The maximum amounts of funding for which each eligible applicant may apply are shown in the following table. The amounts in this table are based on the requirement that each eligible applicant may apply for up to half of the amount it requested in its FY 2011 RTT-ELC application.

State | Maximum amount
Colorado | $29,925,888
Illinois | 34,798,696
New Mexico | 25,000,000
Oregon | 20,508,902
Wisconsin | 22,701,389

Program Authority: Sections 14005 and 14006, Division A, of the American Recovery and Reinvestment Act of 2009 (Pub. L. 111-5), as amended by section 1832(b) of Division B of Pub. L. 112-10, the Department of Defense and Full-Year Continuing Appropriations Act, 2011, and the Department of Education Appropriations Act, 2012 (Title III of Division F of Public Law 112-74, the Consolidated Appropriations Act, 2012).

Applicable Regulations: The Education Department General Administrative Regulations (EDGAR) in 34 CFR parts 75, 77, 79, 80, 82, 84, 85, 86, 97, 98, and 99.

II. Award Information

Type of Award: Discretionary grants.

Estimated Available Funds: $132,934,875. Contingent upon the availability of funds and the quality of applications, we may make supplemental awards in FY 2013 to grantees that did not receive the total amount requested in their FY 2011 applications.

Estimated Range of Awards: $20 million-$35 million.

Estimated Number of Awards: Up to five.

Note: The Departments are not bound by any estimates in this notice.

Project Period: Up to 48 months.

III. Eligibility Information

1. Eligible Applicants: States that applied for funding under the FY 2011 RTT-ELC competition and received approximately 75 percent or more of the available points, but that did not receive grant awards under that competition. Therefore, only the States of Colorado, Illinois, New Mexico, Oregon, and Wisconsin are eligible to apply for Phase 2 RTT-ELC awards.

2.a. Cost Sharing or Matching: This program does not require cost sharing or matching.

b. Supplement-Not-Supplant: This competition involves supplement-not-supplant funding requirements. Consistent with RTT-ELC program requirement (J) in the notice inviting applications that published in the Federal Register on August 26, 2011 (76 FR 53564), funds made available under an RTT-ELC grant must be used to supplement, not supplant, any Federal, State, or local funds for activities such as increasing access to and improving the quality of early learning and development programs. If a State is using funds from another funding source to support elements of its RTT-ELC plan, the State must comply with all applicable requirements associated with that funding source, including any match or maintenance-of-effort requirements.

IV. Application and Submission Information

1. Address to Request Application Package: You can obtain an application package via the Internet at the following address: www.ed.gov/programs/racetothetop-earlylearningchallenge. Alternatively, an applicant may obtain the application package by contacting: Deborah Spitz, U.S. Department of Education, 400 Maryland Ave. SW., room 3E230, Washington, DC 20202, (202) 260-3793.

Individuals with disabilities can obtain a copy of the application package in an accessible format (e.g., braille, large print, audiotape, or compact disc) by contacting the person listed under FOR FURTHER INFORMATION CONTACT in section VII of this notice.

2.a. Content and Form of Application Submission: Requirements concerning the content of the application, together with the forms you must submit, are in the application package for this competition.

3. Submission Dates and Times:

Applications Available: September 20, 2012.

Date of Pre-Application Meeting: September 25, 2012.

To assist eligible applicants in preparing an application and responding to questions, the Departments will host a Webinar for eligible applicants shortly after the publication of this notice. Because only five States are eligible for these funds, information about the Webinar will be provided directly to those States. Deadline for Transmittal of Applications: October 26, 2012.

We do not consider an application that does not comply with the deadline requirements.

We will provide Congress with the names of the States that have submitted applications, as well as post the names of these States on the program's Web site. We will also post all applications submitted by the States. Therefore, please ensure that your application does not include personally identifiable information, proprietary information, or other non-public information.

Individuals with disabilities who need an accommodation or auxiliary aid in connection with the application process should contact the person listed under FOR FURTHER INFORMATION CONTACT in section VII of this notice. If the Departments provide an accommodation or auxiliary aid to an individual with a disability in connection with the application process, the individual's application remains subject to all other requirements and limitations in this notice.

4. Intergovernmental Review: This program is subject to Executive Order 12372 and the regulations in 34 CFR part 79.

5. Funding Restrictions: We reference regulations outlining funding restrictions in the Applicable Regulations section of this notice.

6. Data Universal Numbering System Number, Taxpayer Identification Number, Central Contractor Registry, and System for Award Management: To do business with the Departments, you must—

a. Have a Data Universal Numbering System (DUNS) number and a Taxpayer Identification Number (TIN);

b. Register both your DUNS number and TIN with the Central Contractor Registry (CCR) and, after July 24, 2012, with the System for Award Management (SAM), the Government's primary registrant database;

c. Provide your DUNS number and TIN on your application; and

d. Maintain an active CCR or SAM registration with current information while your application is under review by the Departments and, if you are awarded a grant, during the project period.

You can obtain a DUNS number from Dun and Bradstreet. A DUNS number can be created within one business day.

The CCR or SAM registration process may take five or more business days to complete. If you are currently registered with the CCR, you may not need to make any changes. However, please make certain that the TIN associated with your DUNS number is correct. Also note that you will need to update your CCR registration annually. This may take three or more business days to complete. Information about SAM is available at SAM.gov.

7. Other Submission Requirements: Applications for grants under this competition must be submitted by mail or hand delivery. We strongly recommend the use of overnight mail. Applications postmarked on the deadline date but arriving late will not be read.

a. Application Submission Format and Deadline.

Applications for grants under this competition must be submitted in electronic format on a CD or DVD, with CD-ROM or DVD-ROM preferred. In addition, applicants must submit a signed paper original of the Application Assurances and Certification and one copy of that signed original. Autopen, copies, PDFs (Adobe Portable Document Format), and faxed copies of signature pages are not acceptable originals.

We strongly recommend the applicant to submit a CD or DVD of its application that includes the following files:

1. A single file that contains the body of the application, including required budget tables, that has been converted into a PDF (Portable Document) format so that the PDF is searchable. Note that a PDF created from a scanned document will not be searchable.

2. A single file in a PDF format that contains all of the required signature pages. The signature pages may be scanned and turned into a PDF.

3. Copies of the completed electronic budget spreadsheets with the required budget tables, which should be in a separate file from the body of the application.

Each of these items must be clearly labeled with the State's name and any other relevant identifying information. States must not password-protect these files.

We must receive all grant applications by 4:30:00 p.m., Washington, DC time, on the application deadline date. We will not accept an application for this competition after 4:30:00 p.m., Washington, DC time, on the application deadline date. Therefore, we strongly recommend that applicants arrange for mailing or hand delivery of their application in advance of the application deadline date.

b. Submission of Applications by Mail. States choosing to submit their application (i.e., the CD or DVD, the signed paper original of the Application Assurances and Certifications, and the copy of that original) by mail (either through the U.S. Postal Service or a commercial carrier) must mail the original and two copies of the application, on or before the application deadline date, to the following mailing address: U.S. Department of Education, Application Control Center, Attention: (CFDA Number 84.412), LBJ Basement Level 1, 400 Maryland Avenue SW., Washington, DC 20202-4260.

c. Submission of Applications by Hand Delivery. States choosing to submit their application (i.e., the CD or DVD, the signed paper original of section IV of the application, and the copy of that original) by hand delivery (including via a courier service) must deliver the original and two copies of the application, on or before the application deadline date, to the following address: U.S. Department of Education, Application Control Center, Attention: (CFDA Number 84.412), 550 12th Street SW., Room 7041, Potomac Center Plaza, Washington, DC 20202-4260.

The Application Control Center accepts hand deliveries daily between 8:00 a.m. and 4:30:00 p.m., Washington, DC time, except Saturdays, Sundays, and Federal holidays.

If we receive an application after the application deadline, we will not consider that application.

d. Envelope requirements and receipt: When an applicant submits its application, whether by mail or hand delivery—

(1) It must indicate on the envelope that the CFDA number of the competition under which it is submitting its application is 84.412; and

(2) The Application Control Center will mail to the applicant a notification of receipt of the grant application. If the applicant does not receive this notification, it should call the Application Control Center at (202) 245-6288.

In accordance with 34 CFR 75.216(b) and (c), an application will not be evaluated for funding if the applicant does not comply with all of the procedural rules that govern the submission of the application or the application does not contain the information required under the program.

V. Application Review Information

1. Selection Criteria: The RTT-ELC program selection criteria, published in the Federal Register on August 26, 2011 (76 FR 53564), apply to the RTT-ELC Phase 2 application process.

2. Review and Selection Process: Eligible applicants must submit a complete application, as described in this notice, for review and approval by the Secretaries. Staff from both Departments will review the Phase 2 RTT-ELC applications and conduct budget reviews. Since Phase 2 is not a competition and States will be submitting applications that are consistent with the content of their FY 2011 applications (which have already been peer-reviewed), we will not conduct a peer review by outside experts. In reviewing the applications, the Departments may request that applicants submit revisions to address concerns related to feasibility or the strategic use of funds.

We remind potential applicants that in reviewing applications in any discretionary grant program, the Secretaries may consider, under 34 CFR 75.217(d)(3), the past performance of the applicant in carrying out a previous award, such as the applicant's use of funds, achievement of project objectives, and compliance with grant conditions. The Secretaries may also consider whether the applicant failed to submit a timely performance report or submitted a report of questionable quality.

In addition, the Secretaries also require various assurances including those applicable to Federal civil rights laws that prohibit discrimination in programs or activities receiving Federal financial assistance from the Department of Education (34 CFR 100.4, 104.5, 106.4, 108.8, and 110.23).

3. Special Conditions: Under 34 CFR 80.12, special conditions may be imposed on a grant if the grantee is not financially stable; has a history of unsatisfactory performance; has a financial or other management system that does not meet the standards in 34 CFR part 80, as applicable; has not fulfilled the conditions of a prior grant; or is otherwise not responsible.

VI. Award Administration Information

1. Award Notices: If an application is successful, ED will notify the State's U.S. Representatives and U.S. Senators and send the applicant a Grant Award Notification (GAN). We may notify the State informally, also.

If an application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of the binding commitments under the grant.

3. Reporting: The RTT-ELC reporting requirements, published in the Federal Register on August 26, 2011 (76 FR 53564), apply to the RTT-ELC Phase 2 application process.

4. Evidence and Performance Measures: The RTT-ELC performance measures, published in the Federal Register on August 26, 2011 (76 FR 53564), apply to the RTT-ELC Phase 2 application process.

VII. Agency Contact

FOR FURTHER INFORMATION CONTACT: Deborah Spitz, U.S. Department of Education, 400 Maryland Ave. SW., room 3E230, Washington, DC 20202. Telephone: 202-260-3793 or by email: Deborah.Spitz@ed.gov or RTT.Early.Learning.Challenge@ed.gov.

If you use a telecommunications device for the deaf (TDD) or a text telephone (TTY), call the Federal Relay Service (FRS), toll free, at 1-800-877-8339.

VIII. Other Information

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of these Departments published in the Federal Register, in text or Adobe Portable Document Format (PDF). To use PDF you must have Adobe Acrobat Reader, which is available free at the site.

You may also access documents of these Departments published in the Federal Register by using the article search feature at: www.federalregister.gov. Specifically, through the advanced search feature at this site, you can limit your search to documents published by the Department.

Dated: September 17, 2012.
Deborah S. Delisle,
Assistant Secretary for Elementary and Secondary Education, U.S. Department of Education.
George Sheldon,
Acting Assistant Secretary for Children and Families, U.S. Department of Health and Human Services.

[FR Doc. 2012-23260 Filed 9-19-12; 8:45 am]

BILLING CODE 4000-01-P